ENVIRONMENTAL PROTECTION AGENCY

[EPA-HQ-OAR-2024-0350; FRL 12138-02-OAR]

Use of Advanced and Emerging Technologies for Quantification of Annual Facility Methane Emissions Under the Greenhouse Gas Reporting Program

AGENCY: Environmental Protection Agency (EPA)

ACTION: Notice; extension of public comment period.

SUMMARY: On August 29, 2024, the Environmental Protection Agency (EPA) published a request for information (RFI) on the “Use of Advanced and Emerging Technologies for Quantification of Annual Facility Methane Emissions Under the Greenhouse Gas Reporting Program”. The EPA is extending the comment period.

DATES: The comment period for the document published on August 29, 2024, at 89 FR 70177, is extended. Comments must be received on or before November 27, 2024.

ADDRESSES: Submit your comments, identified by Docket ID No. EPA-HQ-OAR-2024-0350, to the Federal Portal: https://www.regulations.gov. Follow online instructions for submitting comments. Once submitted, comments cannot be edited or withdrawn. Do not submit electronically any information you consider to be Confidential Business Information (CBI). EPA may publish any comment received to its public docket, submitted, or sent via email. For additional submission methods, the full EPA public comment policy, information about CBI, and general guidance on making effective comments, please visit https://www.epa.gov/dockets/commenting-epa-dockets.

FOR FURTHER INFORMATION CONTACT: Vasco Roma, Environmental Protection Agency, Office of Air and Radiation, Office of Atmospheric Protection, Climate Change Division; telephone number: 202-564-1662; email address: Roma.Vasco@epa.gov.

SUPPLEMENTARY INFORMATION: On August 29, 20204, the EPA published an RFI on the “Use of Advanced and Emerging Technologies for Quantification of Annual Facility Methane Emissions Under the Greenhouse Gas Reporting Program”. The public comment for this RFI was scheduled to end on October 28, 2024. In response to multiple extension requests received to date, the EPA is extending that deadline to November 27, 2024. This extension will provide the general public with additional time for comment.

Sharyn Lie,
Director, Climate Change Division.

[FR Doc. 2024-21633 Filed 9-20-24; 8:45 am]

BILLING CODE 6560-50-P